AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to Ross A. Rutledge@omb.eop.gov fax to 202-395-6974. Copies of submission may be obtained by calling (202) 712-1365.

SUPPLEMENTARY INFORMATION: OMB Number: OMB 0412-0580.

Form Number: N/A.

Title: OCR Deployment Tracking System (DTS).

Type of Submission: Renewal of Information Collection.

Purpose: The purpose of this information collection will be used to (a) Track operations of the hiring process; (b) monitor the deployment validation process; (c) identify and plan deployment teams; (d) assess and manage the deployment and logistics of team members; (e) notify, locate and mobilize individuals in a deployed area, as necessary during emergency or other threatening situation; (f) notify the designated emergency contact in case of a medical or other emergency involving an individual; (g) manage orientation, annual, specialized and pre-deployment training in preparation for projected deployments.

Annual Reporting Burden:

Respondents: 250.

Total annual responses: 1,000.

Total annual hours requested: 375 hours.

Dated: October 21, 2009.
Cynthia Staples,
Acting Chief, Information and Records Division, Office of Administrative Services, Bureau for Management.

[FR Doc. E9-25773 Filed 10-28-09; 8:45 am]

BILLING CODE 6116-01-M